DEPARTMENT OF DEFENSE

Office of the Secretary

[Transmittal No. 17-21]

Arms Sales Notification

AGENCY: Defense Security Cooperation Agency, Department of Defense.

ACTION: Notice.

SUMMARY: The Department of Defense is publishing the unclassified text of an arms sales notification.

FOR FURTHER INFORMATION CONTACT: Pamela Young, (703) 697-9107 or Kathy Valadez, (703) 697-9217; DSCA/DSA-RAN.

SUPPLEMENTARY INFORMATION: This 36(b)(1) arms sales notification is published to fulfill the requirements of section 155 of Public Law 104-164 dated July 21, 1996. The following is a copy of a letter to the Speaker of the House of Representatives, Transmittal 17-21 with attached Policy Justification.

Dated: July 19, 2017.
Aaron Siegel,
Alternate OSD Federal Register Liaison Officer, Department of Defense.

Transmittal No. 17-21

Notice of Proposed Issuance of Letter of Offer Pursuant to Section 36(b)(1) of the Arms Export Control Act, as amended

(i) Prospective Purchaser: Government of the United Arab Emirates (UAE)

(ii) Total Estimated Value:

Major Defense Equipment * | $1.0 billion
Other | $1.0 billion
Total | $2.0 billion

(iii) Description and Quantity or Quantities of Articles or Services under Consideration for Purchase:

Major Defense Equipment (MDE):

Sixty (60) Patriot Advanced Capability 3 (PAC-3) Missiles with canisters

One hundred (100) Patriot Guidance Enhanced Missile-Tactical (GEM-T) Missiles

Non-MDE includes:

Also included are canisters, tools and test equipment, support equipment, publications and technical documentation, spare and repair parts, U.S. Government and contractor technical, engineering and logistics support services, and other related elements of logistics and program support.

(iv) Military Department: Army (AE-B-ZUG, Amendment 8)

(v) Prior Related Cases, if any: AE-B-ZUG

(vi) Sales Commission, Fee, etc., Paid, Offered, or Agreed to be Paid: None

(vii) Sensitivity of Technology Contained in the Defense Article or Defense Services Proposed to be Sold: See Attached Annex

(viii) Date Report Delivered to Congress: May 10, 2017

*As defined in Section 47(6) of the Arms Export Control Act.

POLICY JUSTIFICATION

Government of the United Arab Emirates (UAE)—Patriot PAC-3 and GEM-T Missiles

The Government of the United Arab Emirates has requested the possible sale of sixty (60) Patriot Advanced Capability 3 (PAC-3) missiles with canisters and one hundred (100) Patriot Guidance Enhanced Missile-Tactical (GEM-T) missiles. Also included are canisters, tools and test equipment, support equipment, publications and technical documentation, spare and repair parts, U.S. Government and contractor technical, engineering and logistics support services, and other related elements of logistics and program support. The estimated cost is $2 billion.

This proposed sale will contribute to the foreign policy and national security of the United States by improving the security of an important ally which has been, and continues to be, a force for political stability and economic progress in the Middle East. This sale is consistent with U.S. initiatives to provide key allies in the region with modern systems that will enhance interoperability with U.S. forces and increase security.

The proposed sale will enhance the UAE's capability to meet current and future aircraft and missile threats. The UAE will use the capability as a deterrent to regional threats and to strengthen its homeland defense. The UAE has fielded the Patriot system since 2009 and will have no difficulty absorbing these additional missiles into its armed forces.

The proposed sale of these missiles will not alter the basic military balance in the region.

The prime contractor for the PAC-3 Missile is Lockheed-Martin in Dallas, Texas. The prime contractor for the GEM-T missile is Raytheon Company in Andover, Massachusetts. There are no known offset agreements proposed in connection with this potential sale.

Implementation of this proposed sale will require additional contractor representatives to the UAE. It is not expected additional U.S. Government personnel will be required in country for an extended period of time. U.S. Army Aviation and Missile Life Cycle Management Command (AMCOM) currently maintains a field office in UAE in support of UAE Patriot systems.

There will be no adverse impact on U.S. defense readiness as a result of this proposed sale.

Transmittal No. 17-21

Notice of Proposed Issuance of Letter of Offer Pursuant to Section 36(b)(1) of the Arms Export Control Act

Annex

Item No. vii

(vii) Sensitivity of Technology:

1. The Patriot Advanced Capability-3 Missile Segment Enhancement/Configuration-3 Ground Support Equipment (PAC-3 MSE/C-3) Air Defense System. The Patriot Advanced Capability-3/Configuration-3 Ground Support Equipment (PAC-3/C-3) Air Defense System contains classified CONFIDENTIAL hardware components, SECRET tactical software, and critical/sensitive technology. The PAC-3 Missile Four-Pack and Guidance Enhanced Missile (GEM-T) hardware is classified CONFIDENTIAL and the associated launcher hardware is UNCLASSIFIED. The items requested represent significant technological advances for UAE. The PAC-3/C-3 Air Defense System continues to hold a significant technology lead over other surface-to-air missile systems in the world.

2. The PAC-3/C-3 sensitive/critical technology is primarily in the area of design and production know-how and primarily inherent in the design, development and/or manufacturing data related to the following components:

a. Radar Enhancement Phase III (REP-3) Exciter Assemblies

b. Radar Digital Processor

c. Modern Adjunct Processor

d. REP-3 Traveling Wave Tube

e. Classification, Discrimination, and Identification-3 (CDI-3) Digital Signal Processor

f. CDI-3 Analog/Digital Converters

g. Hardware-in-the-Loop and Digital Simulations

h. Surface Acoustic Wave (SAW) Oscillators

i. PAC-3 Missile Guidance Processor Unit

j. PAC-3 Seeker

k. PAC-3 Missile Software

l. PAC-3 MSE Software

m. GEM-T Fuze

n. GEM-T SAW Oscillator

o. Selected areas of the Patriot Ground Equipment software

p. Multiband Radio Frequency Datalink (MRFDL)

3. Information on vulnerability to electronic countermeasures and counter-countermeasures, system performance capabilities and effectiveness, survivability and vulnerability data, PAC-3 and GEM-T Missile seeker capabilities, non-cooperative target recognition, low observable technologies, select software/software documentation and test data are classified up to and including SECRET.

4. If a technologically advanced adversary were to obtain knowledge of the specific hardware and software elements, the information could be used to develop countermeasures which might reduce weapons systems effectiveness or be used in the development of a system with similar or advanced capabilities.

5. A determination has been made that the Government of the UAE can provide substantially the same degree of protection for the sensitive technology being released as the U.S. Government. This proposed sustainment program is necessary to the furtherance of the U.S. foreign policy and national security objectives outlined in the policy justification.

6. All defense articles and services listed in this transmittal are authorized for release and export to the Government of the UAE.

[FR Doc. 2017-15483 Filed 7-21-17; 8:45 am]

BILLING CODE 5001-06-P